DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Colorado: Arapahoe (FEMA Docket No.: B-2232). | City of Aurora (21-08-0396P). | The Honorable Mike Coffman, Mayor, City of Aurora, 15151 East Alameda Parkway, Aurora, CO 80012. | Public Works Department, 15151 East Alameda Parkway, Aurora, CO 80012. | Jul. 29, 2022 | 080002
Florida:
Manatee (FEMA Docket No.: B-2232) | Unincorporated areas of Manatee County (21-04-3451P) | The Honorable Kevin Van Ostenbridge, Chair, Manatee County Board of Commissioners, P.O. Box 1000, Bradenton, FL 34206. | Manatee County Building and Development Services Department, 1112 Manatee Avenue West, Bradenton, FL 34205. | Aug. 2, 2022 | 120153
Monroe (FEMA Docket No.: B-2232). | City of Marathon (22-04-2591P). | The Honorable John Bartus, Mayor, City of Marathon, 9805 Overseas Highway, Marathon, FL 33050. | Planning Department, 9805 Overseas Highway, Marathon, FL 33050. | Aug. 8, 2022 | 120681
Monroe (FEMA Docket No.: B-2232). | Unincorporated areas of Monroe County (22-04-1700P). | The Honorable David Rice, Mayor, Monroe County Board of Commissioners, 9400 Overseas Highway, Suite 210, Marathon, FL 33050. | Monroe County Building Department, 2798 Overseas Highway, Suite 300, Marathon, FL 33050. | Aug. 4, 2022 | 125129
Orange (FEMA Docket No.: B-2231). | City of Orlando (21-04-3916P). | The Honorable Buddy Dyer, Mayor, City of Orlando, 400 South Orange Avenue, Orlando, FL 32801. | Engineering Services Division, 400 South Orange Avenue, Orlando, FL 32801. | Jul. 19, 2022 | 120186
Sarasota (FEMA Docket No.: B-2239). | Unincorporated areas of Sarasota County (21-04-5591P). | The Honorable Alan Maio, Chair, Sarasota County Board of Commissioners, 1660 Ringling Boulevard, Sarasota, FL 34236. | Sarasota County Planning and Development Services Department, 1001 Sarasota Center Boulevard, Sarasota, FL 34240. | Aug. 1, 2022 | 125144
Sumter (FEMA Docket No.: B-2232). | City of Wildwood (21-04-1742P). | The Honorable Ed Wolf, Mayor, City of Wildwood, 100 North Main Street, Wildwood, FL 34785. | City Hall, 100 North Main Street, Wildwood, FL 34785. | Jul. 25, 2022 | 120299
Sumter (FEMA Docket No.: B-2232). | Unincorporated areas of Sumter County (21-04-1742P). | Bradley Arnold, Sumter County Administrator, 7375 Powell Road, Wildwood, FL 34785. | The Villages—Sumter County Service Center, 7375 Powell Road, Wildwood, FL 34785. | Jul. 25, 2022 | 120296
Kentucky:
Hardin (FEMA Docket No.: B-2232). | City of Elizabethtown (21-04-4539P). | The Honorable Jeffrey H. Gregory, Mayor, City of Elizabethtown, 200 West Dixie Avenue, Elizabethtown, KY 42701. | Stormwater Department, 200 West Dixie Avenue, Elizabethtown, KY 42701. | Aug. 10, 2022 | 210095
Hardin (FEMA Docket No.: B-2232). | Unincorporated areas of Hardin County (21-04-4539P). | Harry L. Berry, Hardin County Executive, 150 North Provident Way, Suite 314 Elizabethtown, KY 42701. | Hardin County Engineering and GIS Department, 150 North Provident Way, Suite 223, Elizabethtown, KY 42701. | Aug. 10, 2022 | 210094
Mississippi: Harrison (FEMA Docket No.: B-2232). | City of Pass Christian (22-04-1912P). | The Honorable Jimmy Rafferty, Mayor, City of Pass Christian, 200 West Scenic Drive, Pass Christian, MS 39571. | City Hall, 200 West Scenic Drive, Pass Christian, MS 39571. | Aug. 8, 2022 | 285261
North Carolina:
Durham (FEMA Docket No.: B-2259). | City of Durham (21-04-3214P). | The Honorable Elaine O'Neal, Mayor, City of Durham, 101 City Hall Plaza, Durham, NC 27701. | Durham City-County Hall, 101 City Hall Plaza, Durham, NC 27701. | Jul. 28, 2022 | 370086
Forsyth (FEMA Docket No.: B-2259). | City of Winston-Salem (21-04-4302P). | The Honorable Allen Joines, Mayor, City of Winston-Salem, P.O. Box 2511, Winston-Salem, NC 27102. | Winston-Salem Planning and Development Services Department, 100 East 1st Street, Winston-Salem, NC 27101. | Jul. 21, 2022 | 375360
Oklahoma:
Oklahoma (FEMA Docket No.: B-2232). | City of Oklahoma City (21-06-2787P). | The Honorable David Holt, Mayor, City of Oklahoma City, 200 North Walker Avenue, 3rd Floor, Oklahoma City, OK 73102. | Public Works Department, 420 West Main Street, Suite 700, Oklahoma City, OK 73102. | Jul. 21, 2022 | 405378
Oklahoma (FEMA Docket No.: B-2232). | Unincorporated areas of Oklahoma County (21-06-2787P). | The Honorable Brian Maughan, Chair, Oklahoma County Board of Commissioners, 320 Robert S. Kerr Avenue, Suite 201, Oklahoma City, OK 73102. | Oklahoma County Engineering and Planning Department, 320 Robert S. Kerr Avenue, Suite 201, Oklahoma City, OK 73102. | Jul. 21, 2022 | 400466
Pennsylvania: Centre (FEMA Docket No.: B-2239). | Township of Ferguson (22-03-0002P). | Centrice Martin, Interim Manager, Township of Ferguson, 3147 Research Drive, State College, PA 16801. | Planning and Zoning Department, 3147 Research Drive, State College, PA 16801. | Aug. 2, 2022 | 420260
Tennessee: Hamblen (FEMA Docket No.: B-2239). | City of Morristown (21-04-1266P). | The Honorable Gary Chesney, Mayor, City of Morristown, 100 West 1st North Street, Morristown, TN 37814. | Geographic Information Systems (GIS) Department, 100 West 1st North Street, Morristown, TN 37814. | Aug. 10, 2022 | 470070
Texas:
Bastrop (FEMA Docket No.: B-2232). | City of Elgin (21-06-2966P). | The Honorable Ron Ramirez, Mayor, City of Elgin, P.O. Box 591, Elgin, TX 78621. | City Hall, 310 North Main Street, Elgin, TX 78621. | Jul. 22, 2022 | 480023
Bastrop (FEMA Docket No.: B-2232). | Unincorporated areas of Bastrop County (21-06-2966P). | The Honorable Paul Pape, Bastrop County Judge, 804 Pecan Street, Bastrop, TX 78602. | Bastrop County Development Services Department, 211 South Jackson Street, Bastrop, TX 78602. | Jul. 22, 2022 | 481193
Brazos (FEMA Docket No.: B-2232). | City of Bryan (21-06-2790P). | The Honorable Andrew Nelson, Mayor, City of Bryan, P.O. Box 1000, Bryan, TX 77805. | City Hall, 300 South Texas Avenue, Bryan, TX 77803. | Aug. 10, 2022 | 480082
Caldwell (FEMA Docket No.: B-2239). | City of Lockhart (21-06-2405P). | The Honorable Lew White, Mayor, City of Lockhart, P.O. Box 239, Lockhart, TX 78644. | City Hall, 308 West San Antonio Street, Lockhart, TX 78644. | Aug. 12, 2022 | 480095
Collin (FEMA Docket No.: B-2239). | City of Plano (21-06-3103P). | The Honorable John B. Muns, Mayor, City of Plano, 1520 K Avenue, Plano, TX 75074. | City Hall, 1520 K Avenue, Plano, TX 75074. | Aug. 15, 2022 | 480140
Dallas (FEMA Docket No.: B-2232). | City of Sachse (21-06-2964P). | The Honorable Mike Felix, Mayor, City of Sachse, 3815 Sachse Road, Building B, Sachse, TX 75048. | Engineering Department, 3815 Sachse Road, Building B, Sachse, TX 75048. | Aug. 5, 2022 | 480186
Fort Bend (FEMA Docket No.: B-2239). | Unincorporated areas of Fort Bend County (21-06-1165P). | The Honorable K.P. George, Fort Bend County Judge, 401 Jackson Street, Richmond, TX 77469. | Fort Bend County Engineering Department, 301 Jackson Street, 4th Floor, Richmond, TX 77469. | Aug. 10, 2022 | 480228
Harris (FEMA Docket No.: B-2239). | City of Houston (21-06-0193P). | The Honorable Sylvester Turner, Mayor, City of Houston, P.O. Box 1562, Houston, TX 77251. | Floodplain Management Department, 1002 Washington Avenue, Houston, TX 77251. | Aug. 8, 2022 | 480296
Harris (FEMA Docket No.: B-2239). | Unincorporated areas of Harris County (21-06-0193P). | The Honorable Lina Hidalgo, Harris County Judge, 1001 Preston Street, Suite 911, Houston, TX 77002. | Harris County Permit Office, 10555 Northwest Freeway, Suite 120, Houston, TX 77092. | Aug. 8, 2022 | 480287
Kerr (FEMA Docket No.: B-2239). | Unincorporated areas of Kerr County (21-06-3101P). | The Honorable Rob Kelly, Kerr County Judge, 700 East Main Street, Kerrville, TX 78028. | Kerr County Engineering Department, 3766 State Highway 27, Kerrville, TX 78028. | Aug. 5, 2022 | 480419
McLennan (FEMA Docket No.: B-2232). | City of Bellmead (22-06-0249P). | The Honorable Gary Moore, Mayor, City of Bellmead, 3015 Bellmead Drive, Bellmead, TX 76705. | City Hall, 3015 Bellmead Drive, Bellmead, TX 76705. | Aug. 3, 2022 | 480457
McLennan (FEMA Docket No.: B-2232). | City of Waco (22-06-0249P). | The Honorable Dillon Meek, Mayor, City of Waco, P.O. Box 2570, Waco, TX 76702. | Public Works Department, 401 Franklin Avenue, Waco, TX 76701. | Aug. 3, 2022 | 480461
McLennan (FEMA Docket No.: B-2232). | Unincorporated areas of McLennan County (22-06-0249P). | The Honorable Scott M. Felton, McLennan County Judge, P.O. Box 1728, Waco, TX 76703. | McLennan County Engineering and Mapping Department, 215 North 5th Street, Suite 130, Waco, TX 76701. | Aug. 3, 2022 | 480456
Medina (FEMA Docket No.: B-2232). | City of Castroville (21-06-1723P). | The Honorable Darrin Schroeder, Mayor, City of Castroville, 1209 Fiorella Street, Castroville, TX 78009. | Public Works Department, 703 Paris Street, Castroville, TX 78009. | Aug. 5, 2022 | 480932
Medina (FEMA Docket No.: B-2232). | Unincorporated areas of Medina County (21-06-1723P). | The Honorable Chris Schuchart, Medina County Judge, 1300 Avenue M, Room 250, Hondo, TX 78861. | Medina County Environmental Health Department, 709 Avenue Y, Hondo, TX 78861. | Aug. 5, 2022 | 480472
Randall (FEMA Docket No.: B-2231). | City of Amarillo (22-06-0467P). | The Honorable Ginger Nelson, Mayor, City of Amarillo, P.O. Box 1971, Amarillo, TX 79105. | City Hall, 509 Southeast 7th Avenue, Amarillo, TX 79105. | Jul. 19, 2022 | 480529
Randall (FEMA Docket No.: B-2231). | Unincorporated areas of Randall County (22-06-0467P). | The Honorable Christy Dyer, Randall County Judge, 501 16th Street, Suite 303, Canyon, TX 79015. | Randall County Road and Bridge Department, 301 West Highway 60, Canyon, TX 79015. | Jul. 19, 2022 | 480532
Tarrant (FEMA Docket No.: B-2232). | City of Grapevine (21-06-2959P). | The Honorable William D. Tate, Mayor, City of Grapevine, P.O. Box 95104, Grapevine, TX 76099. | City Hall, 200 South Main Street, Grapevine, TX 76051. | Aug. 8, 2022 | 480598
Tarrant (FEMA Docket No.: B-2232). | Unincorporated areas of Tarrant County (21-06-2812P). | The Honorable B. Glen Whitley, Tarrant County Judge, 100 East Weatherford Street, Suite 501, Fort Worth, TX 76196. | Tarrant County Administration Building, 100 East Weatherford Street, Fort Worth, TX 76196. | Aug. 8, 2022 | 480582
Wise (FEMA Docket No.: B-2232). | Unincorporated areas of Wise County (21-06-2812P). | The Honorable J. D. Clark, Wise County Judge, 101 North Trinity Street, Decatur, TX 76234. | Wise County Public Works Department, 2901 South FM 51, Building 200, Decatur, TX 76234. | Aug. 8, 2022 | 481051
Virginia: Prince William (FEMA Docket No.: B-2232). | City of Manassas Park (21-03-1049P). | The Honorable Jeanette Rishell, Mayor, City of Manassas Park, 1 Park Center Court, Manassas Park, VA 20111. | City Hall, 1 Park Center Court, Manassas Park, VA 20111. | Aug. 5, 2022 | 510123

[FR Doc. 2022-18929 Filed 8-31-22; 8:45 am]

BILLING CODE 9110-12-P